NATIONAL CREDIT UNION ADMINISTRATION

Notice of Meeting

Time and Date: 10 a.m., Thursday, September 19, 2002.

Place: Board Room, 7th Floor, Room 7047, 1775 Duke Street, Alexandria, VA 22314-3428.

Status: Open.

MATTERS TO BE CONSIDERED: 1. Request from a Federal Credit Union to Convert to a Community Charter.

2. Proposed Rule: Part 740 of NCUA's Rules and Regulations, Advertising.

3. Proposed Rule: Section 701.19 of NCUA's Rules and Regulations, Retirement Benefits for Federal Credit Union Employees.

4. Proposed Rule: Part 741 of NCUA's Rules and Regulations, Overseas Branching by Federally Insured Credit Unions.

FOR FURTHER INFORMATION CONTACT: Becky Baker, Secretary of the Board, Telephone: 703-518-6304.

Becky Baker,
Secretary of the Board.

[FR Doc. 02-23664 Filed 9-12-02; 4:00 pm]

BILLING CODE 7535-01-M